DEPARTMENT OF THE INTERIOR

Bureau of Ocean Energy Management

30 CFR Parts 580, 581, and 582

[Docket ID: BOEM-2025-0120]

RIN 1010-AE36

Administrative Revisions to Regulations Related to Outer Continental Shelf Minerals Other Than Oil, Gas, and Sulphur

AGENCY: Bureau of Ocean Energy Management, Interior.

ACTION: Notice of proposed rulemaking and request for comment.

SUMMARY: Consistent with Executive Order (E.O.) 14285, “Unleashing America's Offshore Critical Minerals and Resources” (April 24, 2025), E.O. 14154 “Unleashing American Energy” (January 20, 2025), E.O. 14192 “Unleashing Prosperity through Deregulation” (January 31, 2025), and consistent with agency policy, the Department of the Interior (the Department or DOI), acting through the Bureau of Ocean Energy Management (BOEM), proposes administrative revisions to regulations that govern prospecting, leasing, and operations related to minerals other than oil, gas, and sulphur (“hard minerals”) on the Outer Continental Shelf (OCS).

DATES: BOEM must receive your comments on or before April 27, 2026. BOEM has the discretion not to consider comments received after this date.

ADDRESSES: You may submit comments on the rulemaking by any of the following methods. In your comments, please reference “Administrative Revisions to Regulations Related to Outer Continental Shelf Minerals Other than Oil, Gas and Sulphur, RIN 1010-AE36.” See the SUPPLEMENTARY INFORMATION section of this document for more details on submitting comments.

• Federal rulemaking portal: https://www.regulations.gov (BOEM preferred method). Follow the online instructions for submitting comments.

• Mail or delivery service: Send comments on the proposed rule to the Department of the Interior, Bureau of Ocean Energy Management, Office of Regulatory Affairs, Attention: Nabanita Modak Fischer, 45600 Woodland Road, Mailstop: DIR-BOEM, Sterling, VA 20166.

FOR FURTHER INFORMATION CONTACT: Nabanita Modak Fischer, Office of Regulatory Affairs, BOEM, 45600 Woodland Road, Sterling, Virginia 20166, at email address regulatory.affairs@boem.gov or at telephone number (703) 787-1272.

Individuals in the United States who are deaf, deafblind, hard of hearing, or have a speech disability may dial 711 (TTY, TDD, or TeleBraille) to access telecommunications relay services for contacting the contacts listed in this section. These services are available 24 hours a day, 7 days a week, to leave a message or question with the above individual. You will receive a reply during normal business hours. Individuals outside the United States should use the relay services offered within their country to make international calls to the point-of-contact in the United States.

SUPPLEMENTARY INFORMATION:

Docket: For access to the docket to read background documents or comments received, go to https://www.regulations.gov. In the entry titled, “Enter Keyword or ID,” enter BOEM-2025-0120 then click search. Here you can view supporting and related materials available for this rulemaking, as well as posted publicly submitted comments.

Instructions for submitting comments: In the entry titled, “Enter Keyword or ID,” enter BOEM-2025-0120 then click search. Follow the instructions to submit public comments. All submissions received must include the agency name and docket number or Regulatory Information Number (RIN) for this rulemaking (1010-AE36). Please include your name, and phone number or email address in the https://www.regulations.gov submission portal so we can contact you if we have questions regarding your submission.

Public availability of comments: BOEM may post all submitted comments to regulations.gov. Before including your name, return address, phone number, email address, or other personally identifiable information directly in your comment, you should be aware that your entire comment—including your personally identifiable information—may be made publicly available. In order for BOEM to withhold from disclosure your personally identifiable information, you must identify, in a cover letter, any information contained in the submittal of your comments that, if released, would constitute a clearly unwarranted invasion of your personal privacy. You must also briefly describe in such cover letter any possible harmful consequences of the disclosure of information, such as embarrassment, injury, or other harm. While you can ask us in your comment to withhold your personally identifiable information from public review, we cannot guarantee that we will be able to do so. Even if BOEM withholds your information in the context of this rulemaking, your submission is subject to the Freedom of Information Act (FOIA) and any relevant court orders, and if your submission is requested under the FOIA or such court order, your information will only be withheld if a determination is made that one of the FOIA's exemptions to disclosure applies or if such court order is challenged. Such a determination will be made in accordance with the Department's FOIA regulations and applicable law.

Organization of this document. The information in this preamble is organized as follows:

I. General Information

A. Purpose of This Regulatory Action and Summary

B. Does this action apply to me?

C. Where can I get a copy of this document and other related information?

II. Background

A. BOEM Statutory and Regulatory Authority

B. History of OCS Hard Minerals Regulations

III. Summary of the Proposed Regulatory Provisions

IV. Section-by-Section Analysis

V. Statutory Order Review

A. Regulatory Flexibility Act (RFA)

B. Small Business Regulatory Enforcement Fairness Act (SBREFA)

C. Unfunded Mandates Reform Act (UMRA)

D. Paperwork Reduction Act (PRA)

E. National Environmental Policy Act (NEPA)

F. Data Quality Act

G. Treasury and General Government Appropriations Act of 2001

VI. Executive Order Review

A. Executive Order 12630: Governmental Actions and Interference With Constitutionally Protected Property Rights

B. Executive Order 12866: Regulatory Planning and Review and Executive Order 13563: Improving Regulation and Regulatory Review

C. Executive Order 12988: Civil Justice Reform

D. Executive Order 13132: Federalism

E. Executive Order 13175: Consultation and Coordination With Indian Tribal Governments

F. Executive Order 13211: Actions Concerning Regulations That Significantly Affect Energy Supply, Distribution, or Use

G. Executive Order 14154: Unleashing American Energy

H. Executive Order 14156: Declaring a National Energy Emergency

I. Executive Order 14172: Restoring Names That Honor American Greatness

J. Executive Order 14192: Unleashing Prosperity Through Deregulation

K. Executive Order 14285: Unleashing America's Offshore Critical Minerals and Resources

I. General Information

A. Purpose of This Regulatory Action and Summary

The purpose of this action is to eliminate outdated and unnecessary regulations, introduce additional clarity, and help facilitate timely hard mineral prospecting, leasing, and operations.

B. Does this action apply to me?

This action proposes administrative changes and does not substantively affect applicants and holders of permits for prospecting for minerals other than oil, gas, and sulphur and leases for minerals other than oil, gas, and sulphur on the OCS.

C. Where can I get a copy of this document and other related information?

In addition to being available in the docket, BOEM will post an electronic copy of this final rule at: https://www.boem.gov/regulations-and-guidance.

II. Background

A. BOEM Statutory and Regulatory Authority

The Outer Continental Shelf Lands Act (OCSLA), 43 U.S.C. 1331 et seq., authorizes the Secretary of the Interior to oversee energy and mineral development on the OCS. The Department's OCS hard mineral regulations cover scientific research notices and issuance of prospecting permits (30 CFR part 580), the leasing process (30 CFR part 581), and operations (30 CFR part 582) for minerals other than oil, gas, and sulphur.

B. History of OCS Hard Minerals Regulations

The foundation for managing offshore mineral resources other than oil, gas, and sulphur on the OCS was established with the enactment of the OCSLA in 1953, which granted the Federal Government authority over mineral resource development on the OCS. In the following decades, growing interest in offshore resources like sand, gravel, and strategic minerals prompted additional statutory and regulatory development. After being managed for decades by other agencies within the Department, the Minerals Management Service (MMS) was established in 1982 to oversee OCS energy and mineral activities.

On January 19, 1982, the Secretary of the Interior announced the development of a program for the leasing of minerals other than oil, gas, and sulphur in the OCS. Pursuant to section 8(k) of OCSLA (43 U.S.C. 1337(k)), the Department acting through the MMS published a Notice of Jurisdiction regarding these marine minerals on December 8, 1982. On January 19, 1983, the Department published a notice adding clarifications to the area of jurisdiction for marine minerals. Following the Notice of Jurisdiction, the Department issued new regulations for the exploration, leasing, and operation of marine minerals other than oil, gas, and sulphur on the OCS. This led to the publication of 30 CFR part 280 (prospecting) in 1988, 30 CFR part 281 (leasing) in 1989, and 30 CFR part 282 (operations) in 1989, which established prospecting, leasing processes, and operational requirements for hard minerals on the OCS. In 2011, following the reorganization of the MMS into three separate organizations, BOEM took over the management of some of these regulations, and the regulatory provisions overseen by BOEM were transferred from parts 280, 281, and 282 to parts 580, 581, and 582 respectively. The Bureau of Safety and Environmental Enforcement manages certain hard minerals regulations that remain in 30 CFR parts 280 and 282 and are unaffected by this rulemaking.

BOEM oversees the permitting and notification processes for geological and geophysical prospecting for and scientific research activities related to OCS critical minerals, other strategic “hard minerals,” and aggregate in accordance with 30 CFR part 580.

30 CFR part 581 establishes procedures for leasing rights to explore, develop, and produce hard minerals on the OCS.

BOEM's regulations for hard mineral operations under a lease are found at 30 CFR part 582. BOEM and its predecessors have never exercised this part of the hard minerals regulatory framework since it was promulgated in 1989, as no leases have been issued to date under the regulatory framework.

Section 3(b)(i) of the E.O. 14285 directs the Secretary of the Interior with establishing an expedited process for reviewing and approving permits for prospecting and granting leases for exploration, development, and production of seabed mineral resources without compromising environmental and transparency standards within the United States' OCS under OCSLA, consistent with applicable law.

Despite having regulations in place for nearly 40 years, the Department has only held one OCS mineral lease sale under those regulations—the Norton Sound Gold Sale in 1991, offshore Alaska.¹ No bids were received, no leases were issued in that sale, and commercial production of OCS minerals has yet to be achieved. In response to E.O. 14285, BOEM is reviewing its permitting, leasing, and operations regulations and moving forward with efforts to facilitate the extraction of OCS critical minerals.

¹ Pre-regulation, six phosphorite leases were issued off Southern California in 1961, but were later relinquished.

III. Summary of the Proposed Regulatory Provisions

BOEM is proposing to eliminate the following regulatory provisions:

A. Eliminate 30 CFR 580.29 “Will BOEM monitor the environmental effects of my activities?”

30 CFR 580.29 states that BOEM “will evaluate the potential of proposed prospecting or scientific research activities for adverse impact on the environment to determine the need for mitigation measures.” This provision is potentially misleading, and superfluous. BOEM has the statutory obligation and responsibility to evaluate all applications on a technical and environmental basis regardless of this provision. BOEM evaluates the environmental implications of all permit applications in accordance with applicable law, including but not limited to the need for mitigation. The parallel OCS oil and gas regulations found in 30 CFR part 551 include no such section, and similarly this provision is not required in the hard mineral regulations.

B. Eliminate 30 CFR 580.30 “What activities will not require environmental analysis?”

This regulatory provision does not establish or significantly implicate BOEM or Interior categorical exclusions or BOEM's ability to use categorical exclusions. Categorical exclusions are set out in the Departmental Manual and the recently issued revised DOI NEPA regulations (43 CFR part 46) and NEPA handbook. Thus, the list of activities found in this section is not a list of Department or Bureau categorical exclusions. The list in this section is not needed and could mislead applicants about the ongoing need and practice of case-by-case environmental reviews. These types of activities can be covered by existing categorical exclusions, when appropriate, but this regulation is unnecessary to that analysis.

C. Eliminate 30 CFR 580.31 “Whom will BOEM notify about environmental issues?”

The provision can be deleted because it introduces purely procedural requirements for State and local governments and organizations related to prospecting, rather than the community directly regulated by 30 CFR part 580. There is no explicit requirement for including this provision in OCSLA, which allows BOEM to authorize exploration related to hard minerals, to direct adjacent or affected State governor notification and commenting procedures as outlined in 30 CFR 580.31(a)-(c). Adjacent State and affected State have the same meaning in effect, whether in regulation 30 CFR 580.1 or in statute (43 U.S.C. 1331(f)). Notification of the governors of affected States (also known as adjacent States) is statutorily reserved to the unique circumstances identified in section 18 (43 U.S.C. 1344), section 19 (43 U.S.C. 1345), and other sections of OCSLA (e.g., section 25, 43 U.S.C. 1351) that are not otherwise applicable to prospecting for minerals other than oil, gas and sulphur and defined in 43 U.S.C. 1331(k). BOEM will continue to comply with relevant statutes that may be implicated by a request for prospecting under 30 CFR part 580 (e.g., in context of an applicant-driven Coastal Zone Management Act (CZMA) consistency certification or an environmental analysis under NEPA). But the regulation does nothing not already required by those statutes and does not impose any requirement on the regulated community under this part (e.g., those persons or entities seeking approval to conduct prospecting activities on the OCS). This section is purely ministerial between BOEM and third-party government agencies and organizations that are not regulated by this part; as such it is being deleted as unnecessary.

D. Eliminate 30 CFR 580.33 “How can I appeal a penalty” and 580.34 “How can I appeal an order or decision?”

These regulations are cross-references and can be deleted to avoid redundance.

E. Eliminate 30 CFR 581.5 “False Statements”

This regulatory provision is redundant with the referenced statute.

F. Eliminate 30 CFR 581.9 “Jurisdictional Controversies”

This regulation generally summarizes the language of an OCSLA provision, 43 U.S.C. 1336. The jurisdictional controversies over oil and gas that necessitated this resolution process be included in OCSLA are largely settled and are less relevant when extracting hard minerals. Importantly, the statutory authority and process to resolve jurisdictional controversies are not affected by the deletion of this regulatory provision.

G. Revise 30 CFR 581.11(b) “Unsolicited request for a lease sale”

The requirement for the BOEM Director to decide “within 45 days” of receipt of a lease request is not based on a statutory requirement. BOEM proposes to replace this 45-day timeframe with 28 days to ensure timely processing of such requests.

H. Eliminate 30 CFR 582.7 “Jurisdictional Controversies”

This regulation generally summarizes the language of an OCSLA provision, 43 U.S.C. 1336. The jurisdictional controversies over oil and gas that necessitated this resolution process be included in OCSLA are largely settled and are less relevant when extracting hard minerals. Importantly, the statutory authority and process to resolve jurisdictional controversies are not affected by the deletion of this regulatory provision.

I. Eliminate 30 CFR 582.50 “Appeals”

The provision can be deleted because this is a simple cross-reference.

IV. Section-by-Section Analysis

The Department is proposing to revise the regulations as follows:

Part 580—Prospecting for Minerals Other Than Oil, Gas, and Sulphur on the Outer Continental Shelf

Subpart C—Obligations Under This Part

Section 580.29: Will BOEM monitor the environmental effects of my activity?

As discussed in section III.A of this preamble, the Department is proposing to remove this provision as this provision is potentially misleading, and superfluous. BOEM has the statutory obligation and responsibility to evaluate all applications on a technical and environmental basis regardless of this provision. BOEM evaluates the environmental implications of all permit applications in accordance with applicable law, including but not limited to the need for mitigation.

Section 580.30: What activities will not require environmental analysis?

As discussed in section III.B of this preamble, the Department is proposing to remove this provision because categorical exclusions are separately established and reported in the Departmental Manual and in a recently published Department NEPA Handbook and revised Departmental NEPA regulations (see 43 CFR part 46). BOEM evaluates the type of activities listed in 30 CFR 580.30 in context of the established categorical exclusions in 43 CFR 46.210 and the Department Manual. Broad categorical exclusions exist for non-destructive field surveying, mapping, research, and monitoring (43 CFR 46.210(e) and 516 DM 1, Appendix 2 15.4 A(1) and C(9)). The application of any categorical exclusion requires some evaluation, such as the consideration of extraordinary circumstances. See 43 CFR 46.215. Moreover, any individual activity, or a program of activities, may still be subject to the requirements of other environmental laws, thereby requiring analysis or possibly consultation, and the section title wrongly implies environmental analysis is not required. This provision, which was first introduced by the MMS in 1987 and later revised in 1999, can be deleted.²

² See 52 FR 9765 (March 26, 1987).

Section 580.31: Whom will BOEM notify about environmental issues?

As discussed in section III.C of this preamble, the Department is proposing to remove this provision because it currently requires procedures that are not required by statute, is not directed at the regulated community under this part, and only addresses coordination with third party governments and organizations already addressed by other statutes. There is no explicit requirement in OCSLA to engage an adjacent or affected State governor in the manner that is currently mandated by 30 CFR 580.31(a) and (b). The section is purely procedural and does not include any substantive requirements on the entities regulated by part 580 (i.e., those persons and entities seeking to conduct prospecting activities for minerals other than oil, gas and sulphur on the OCS). This section merely restates, and sometimes inconsistently, requirements already mandated by other sections. Deletion of this section from the CFR does not in any way change the substantive requirements of those other statutory provisions (e.g., under CZMA or NEPA). In addition, there is currently no parallel provision in 30 CFR part 551, addressing geophysical and geological surveys related to oil and gas. The proposed change would make parts 580 and 551 more consistent in their approach.

Finally, although BOEM has issued relatively few prospecting permits recently, those permits, and related applications have typically been posted to BOEM's website. The existing provision at 30 CFR 580.31(c), indicating that BOEM will notify parties who have expressed interest in the application, is not statutorily required and is unnecessary, given existing distribution practice. No similar provision is currently included in 30 CFR part 551 for geophysical and geological surveys related to oil and gas. The proposed change would make parts 580 and 551 more consistent. This proposed elimination would have no effect on a State's ability to view a permit application, participate in the NEPA review as a cooperating agency, or obtain copies of issued permits and the Freedom of Information Act would still apply to other requests regardless of the deletion of this section.

Section 580.33: How can I appeal a penalty?

As discussed in section III.D of this preamble, the Department is proposing to delete this provision because this is a cross-reference to the part 590 regulations and the part 550 regulations. 30 CFR part 590 (subpart A) already expressly provides instructions on how to appeal any final decision or order of BOEM under chapter V of title 30 of the CFR (including 30 CFR part 580), with limited exclusions. 30 CFR 590.7 also adopts by reference 30 CFR 550.1409. As such, the cross references to 30 CFR 550.1409 and 30 CFR part 590 are redundant.

Section 580.34: How can I appeal an order or decision?

As discussed in section III.D of this preamble, the Department is proposing to delete this provision because this is a cross-reference to the part 590 regulations. 30 CFR part 590 (subpart A) already expressly states that the appeals process applies to any final decision or order of BOEM under Chapter V of Title 30 of the CFR (including 30 CFR part 580), with only limited exceptions, and provides instructions on how to appeal an order or decision.

Part 581—Leasing of Minerals Other Than Oil, Gas, and Sulphur in the Outer Continental Shelf

Subpart A—General

Section 581.5: False Statements

The Department is proposing, and as discussed in section III.E of this preamble, to remove this provision because of redundance. This regulatory provision identifies a statutory provision (18 U.S.C. 1001) without adding any requirements specific to OCS mineral leasing.

Section 581.9: Jurisdictional Controversies

The Department is proposing, as discussed in section III.F of this preamble, to remove this regulatory provision. The statutory provision that this regulation is based on (43 U.S.C. 1336) applies to mineral leasing as that term was considered when the statutory section was adopted in 1953 and refers to “existing” leases at the time of adoption. This regulation generally summarizes the language of an OCSLA provision, 43 U.S.C. 1336. The jurisdictional controversies over oil and gas that necessitated the inclusion of this resolution process in OCSLA are largely settled and are less relevant when extracting hard minerals. BOEM does not expect that there will be hard mineral deposits located on or beneath State submerged lands that would be physically extracted from vessels, facilities, or equipment physically located on or above the OCS, as is possible with directional drilling and cross-boundary oil and gas reservoirs. If there is a mineral deposit that crosses Federal and State jurisdiction, Federal and State regulatory processes will need to be followed. Moreover, the statutory authority and process identified in OCSLA is not implicated by the deletion.

Subpart B—Leasing Procedures

Section 581.11: Unsolicited Request for a Lease Sale

The Department is proposing, as discussed in section III.G of this preamble, to revise section 581.11(b) by replacing “45 days” with “28 days” to ensure faster processing of such requests. OCSLA does not specify any timeline for the BOEM Director to decide on an unsolicited request for a lease sale; it is within the Department's discretion to reduce the time within which to make this decision.

Part 582—Operations in the Outer Continental Shelf for Minerals Other Than Oil, Gas, and Sulphur

Subpart A—General

Section 582.7: Jurisdictional Controversies

As discussed in section III.H of this preamble, the Department is proposing to completely remove the provision. The statutory provision that this regulation is based on (43 U.S.C. 1336) applies to mineral leasing as that term was considered when the statutory section was adopted in 1953 and refers to “existing” leases at the time of adoption. This regulation generally summarizes the language of an OCSLA provision, 43 U.S.C. 1336. The jurisdictional controversies over oil and gas that necessitated the inclusion of this resolution process in OCSLA are largely settled and are less relevant when extracting hard minerals. BOEM does not expect that there will be hard mineral deposits located on or beneath State submerged lands that would be physically extracted from vessels, facilities, or equipment physically located on or above the OCS, as is possible with directional drilling and cross-boundary oil and gas reservoirs. If there is a mineral deposit that crosses Federal and State jurisdiction, Federal and State regulatory processes will need to be followed. Moreover, the statutory authority and process identified in OCSLA is not implicated by the deletion.

Subpart E—Appeals

Section 582.50: Appeals

As discussed in section III.I of this preamble, the Department is proposing to completely remove this provision because this is a simple cross-reference and adds no substance. 30 CFR part 590 (subpart A) already expressly states that the appeals process applies to any final decision or order of BOEM under chapter V of title 30 of the CFR (including 30 CFR part 582), with only limited exceptions, and provides instructions on how to appeal an order or decision.

V. Statutory Order Review

A. Regulatory Flexibility Act (RFA)

The RFA, 5 U.S.C. 601-612, requires agencies to analyze the economic impact of regulations issued under 5 U.S.C. 553(b) when a significant economic impact on a substantial number of small entities is likely. Agencies must also consider regulatory alternatives that will achieve the agency's goals while minimizing the burden on small entities. Because this proposed rule is administrative in nature and imposes no new requirements on small entities, no such analysis is required.

B. Small Business Regulatory Enforcement Fairness Act (SBREFA)

The SBREFA, 5 U.S.C. 804(2), requires agencies to perform a regulatory flexibility analysis, provide guidance, and help small businesses comply with statutes and regulations for major rulemakings. This action is not subject to the SBREFA because it: (1) does not have an annual effect on the economy of $100 million or more; (2) will not cause a major increase in costs or prices for consumers, individual industries, Federal, State, or local government agencies, or geographic regions; and (3) does not have significant adverse effects on competition, employment, investment, productivity, innovation, or the ability of U.S.-based enterprises to compete with foreign-based enterprises.

C. Unfunded Mandates Reform Act (UMRA)

The UMRA, 2 U.S.C. 1531-1538, requires agencies, unless otherwise prohibited by law, to assess the effects of regulatory actions on State, local and Tribal governments, and the private sector. Section 202 of UMRA generally requires DOI to prepare a written statement, including a cost-benefit analysis, for each proposed and final rule with “Federal mandates” that may result in expenditures by State, local, and Tribal governments, in the aggregate, or to the private sector of $195 million or more in any one year. This action does not contain any unfunded mandate as described in UMRA 2, U.S.C. 1531-1538, and does not significantly or uniquely affect small groups. This action imposes no enforceable duty on any State, local, or Tribal governments, or the private sector.

D. Paperwork Reduction Act (PRA)

The PRA of 1995 (44 U.S.C. 3501-3521) provides that an agency may not conduct or sponsor, and a person is not required to respond to, a “collection of information” unless it displays a currently valid Office of Management and Budget (OMB) control number. Collections of information include requests and requirements that an individual, partnership, or corporation obtain information and report it to a Federal agency (44 U.S.C. 3502(3); 5 CFR 1320.3(c) and (k)). This proposed rule contains collections of information that were submitted to the OMB for review and approval under 44 U.S.C. 3507(d).

This rule does not contain any new collection of information that requires approval by the OMB under the Paperwork Reduction Act of 1995 (44 U.S.C. 3501 et seq.). The OMB has previously reviewed and approved the information collection requirements associated with 30 CFR 580, 581, and 582, and assigned the following OMB control numbers:

• 1010-0072—30 CFR part 580, Prospecting for Minerals other than Oil, Gas, and Sulphur on the OCS and Authorizations of Noncommercial G&G Activities (expires 04/30/2028) (826 annual burden hours and 45 responses, $4,024 non-hour costs),

• 1010-0082—30 CFR part 581, Leasing of Minerals Others than Oil, Gas, and Sulphur in the OCS (expires 10/31/2027) (1,004 annual burden hours and 11 responses, $50 non-hour costs), and

• 1010-0081—30 CFR part 582, Operations in the OCS for Minerals Other than Oil, Gas, and Sulphur (expires 7/31/2026); (212 annual burden hours and 20 responses, $0 non-hour costs).

In accordance with 5 CFR 1320.10, an agency may continue to conduct or sponsor these collections of information while the submission is pending at OMB.

E. National Environmental Policy Act (NEPA)

This proposed rule does not constitute a major Federal action significantly affecting the quality of the human environment. A detailed environmental analysis under NEPA is not required because the proposed rule is covered by a categorical exclusion (see 43 CFR 46.205). This proposed rule meets the criteria set forth at 43 CFR 46.210(i) for a Departmental categorical exclusion in that this proposed rule is “of an administrative, financial, legal, technical, or procedural nature.” DOI has also determined that the proposed rule does not involve any of the extraordinary circumstances listed in 43 CFR 46.215 that would require further analysis under NEPA.

F. Data Quality Act

In proposing this rule, the Department did not conduct or use a study, experiment, or survey requiring peer review under the Data Quality Act (Pub. L. 106-554, app. C, sec. 515, 114 Stat. 2763, 2763A-153-154). In accordance with the Data Quality Act, the Department has issued guidance regarding the quality of information that it relies upon for regulatory decisions. This guidance is available at the Department's website at: https://www.doi.gov/ocio/policy-mgmt-support/information-and-records-management/iq.

G. Treasury and General Government Appropriations Act of 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). DOI has reviewed this proposed rule under the OMB guidelines and has concluded that it is consistent with applicable policies in those guidelines.

VI. Executive Order Review

A. Executive Order 12630: Governmental Actions and Interference With Constitutionally Protected Property Rights

E.O. 12630 ensures that government actions affecting the use of private property are undertaken on a well-reasoned basis with due regard for the potential financial impacts imposed by the government. This action does not effect a taking of private property or otherwise have taking implications under E.O. 12630; and therefore, a takings implication assessment is not required.

B. Executive Order 12866: Regulatory Planning and Review and Executive Order 13563: Improving Regulation and Regulatory Review

E.O. 12866 gives OMB the authority to review regulatory actions that are categorized as “significant”; i.e., those actions that are likely to result in a rule that may:

• Have an annual effect on the economy of $100 million or more or adversely affect in a material way the economy; a sector of the economy; productivity; competition; jobs; the environment; public health or safety; or State, local, or Tribal governments or communities;

• Create a serious inconsistency or otherwise interfere with an action taken or planned by another agency;

• Materially alter the budgetary impacts of entitlements, grants, user fees or loan programs or the rights and obligations of recipients thereof; or

• Raise novel legal or policy issues arising out of legal mandates, the President's priorities, or the principles set forth in the E.O.

E.O. 12866 provides that the Office of Information and Regulatory Affairs (OIRA) in the OMB will review all significant rules. OIRA has determined that this action is not a significant regulatory action, and therefore, it was not submitted to OMB for review.

E.O. 13563 reaffirms the principles of E.O. 12866 while calling for improvements in the Nation's regulatory system to promote predictability and reduce uncertainty, and to use the best, most innovative, and least burdensome tools for achieving regulatory ends. The E.O. directs agencies to consider regulatory approaches that reduce burdens and maintain flexibility and freedom of choice for the public where these approaches are relevant, feasible, and consistent with regulatory objectives. The Department has developed this rule in a manner consistent with these requirements.

C. Executive Order 12988: Civil Justice Reform

This rule complies with the requirements of E.O. 12988. Specifically, this rule:

(1) Meets the criteria of section 3(a) requiring that all regulations be reviewed to eliminate errors and ambiguity and be written to minimize litigation; and

(2) Meets the criteria of section 3(b)(2) requiring that all regulations be written in clear language and contain clear legal standards.

D. Executive Order 13132: Federalism

E.O. 13132 (64 FR 43255) revoked and replaced E.O. 12612 (federalism) and 12875 (Enhancing the Intergovernmental Partnership). E.O. 13132 took effect on November 2, 1999, and thus applies to actions published on or after that date. Sections 3 and 6 of E.O. 13132 apply to policies with federalism implications, defined in the E.O. as including actions that have “substantial direct effects on the States, on the relationship between the national government and the States, or on distribution of power and responsibilities among the various levels of government.”

Regulatory actions that have substantial direct effects on the States, on the relationship between the national government and the States, or on the distribution of power and responsibilities among the various levels of government are subject to E.O. 13132. Under the criteria in section 1 of E.O. 13132, this proposed rule does not have sufficient federalism implications to warrant the preparation of a federalism summary impact statement. It will not have substantial direct effects on the States, on the relationship between the national government and the States, or on the distribution of power and responsibilities among the various levels of government.

E. Executive Order 13175: Consultation and Coordination With Indian Tribal Governments

E.O. 13175 defines polices that have Tribal implications as regulations, legislative comments or proposed legislation, and other policy statements or actions that will or may have a substantial direct effect on one or more Indian Tribes, or on the relationship between the Federal Government and one or more Indian Tribes. Additionally, the DOI's consultation policy for Tribal Nations and ANCSA Corporations, as described in Departmental Manual part 512 chapter 4, expands on the above definition from E.O. 13175 and requires that BOEM invite Indian Tribes and ANCSA Corporations “early in the planning process to consult whenever a Departmental plan or action with Tribal Implications arises.” BOEM strives to strengthen its government-to-government relationships with Tribal Nations through a commitment to consultation with Tribes, recognition of their right to self-governance and Tribal sovereignty, and honoring BOEM's trust responsibilities for Tribal Nations.

BOEM evaluated the proposed rule under the DOI's consultation policy and under the criteria in E.O. 13175, and determined that it has no substantial direct effects on federally recognized Tribe or ANCSA Corporation, as defined in the Department's Tribal consultation policy, and therefore consultation is not required.

F. Executive Order 13211: Actions Concerning Regulations That Significantly Affect Energy Supply, Distribution, or Use

E.O. 13211 was issued on May 22, 2001, and requires Federal agencies to prepare a “Statement of Energy Effects” when undertaking certain regulatory actions. A Statement of Energy Effects describes the adverse effects of a “significant energy action” on energy supply, distribution and use; reasonable alternatives to the action; and the expected effects of the alternatives on energy supply, distribution, and use.

This action is not subject to E.O. 13211, because this rulemaking does not include any adverse effects on energy supply, distribution, or use including a shortfall in supply, price increases, or increased use of foreign energy supplies.

G. Executive Order 14154: Unleashing American Energy

Section 3 of E.O. 14154 requires immediate review of all agency actions that potentially burden the development of domestic energy resources. The Department has reviewed E.O. 14154 and believes this proposed rule is consistent with its requirements.

H. Executive Order 14156: Declaring a National Energy Emergency

Section 1 of E.O. 14156 declares a national emergency because “[o]ur Nation's current inadequate development of domestic energy resources leaves us vulnerable to hostile foreign actors and poses an imminent and growing threat to the United States' prosperity and national security.” Section 2 instructs the heads of executive departments and agencies to identify and exercise any lawful emergency authorities available to them to facilitate the identification, leasing, siting, production, transportation, refining, and generation of domestic energy resources. While the proposed rule does not directly address any emergency actions related to facilitating the identification, leasing, siting, production, transportation, refining, and generation of domestic energy resources, this proposed rule is intended to promote exploration and development of marine minerals, including critical minerals, that may support fabrication and manufacturing of components necessary to support domestic energy development.

I. Executive Order 14172: Restoring Names That Honor American Greatness

Section 4 of E.O. 14172 directs the Secretary of the Interior to take appropriate actions to rename the area formerly known as the Gulf of Mexico to the “Gulf of America.” The Gulf of America is now the U.S. Continental Shelf area bounded on the northeast, north, and northwest by the States of Texas, Louisiana, Mississippi, Alabama, and Florida and extends to the seaward boundary with Mexico and Cuba. BOEM previously replaced all Gulf of Mexico references in 30 CFR parts 580, 581, and 582 with Gulf of America with a final rule (90 FR 24066), published on June 6, 2025.

J. Executive Order 14192: Unleashing Prosperity Through Deregulation

E.O. 14192 requires that for each new regulation issued, at least 10 prior regulations be identified for elimination. As stated in section 3(c), any incremental costs associated with new regulations shall be offset by the elimination of existing costs associated with at least 10 prior regulations. While not quantifiable, this action proposes to reduce the existing regulatory burden by removing unnecessary regulatory provisions.

K. Executive Order 14285: Unleashing America's Offshore Critical Minerals and Resources

On April 24, 2025, the President signed E.O. 14285 Unleashing America's Offshore Critical Minerals and Resources. This E.O. directs the departments and agencies to advance United States leadership in seabed mineral development by rapidly developing capabilities for exploration, characterization, collection, and processing of seabed mineral resources through streamlined permitting without compromising environmental protection and transparency. Section 3(b) of the E.O. dictates that the Secretary of the Interior will “establish an expedited process for reviewing and approving permits for prospecting and granting leases for exploration, development, and production of seabed mineral resources within the United States Outer Continental shelf under the Outer Continental Shelf Lands Act” by June 23, 2025. Additionally, section 3(b) dictates that the [Secretary] will identify potential seabed critical mineral resources and coordinate with the Secretary of Defense and the Secretary of Energy to determine which could be essential for applications such as defense infrastructure, manufacturing, and energy.

The Department is proposing this regulatory action to address E.O. 14285 by streamlining BOEM regulations at 30 CFR parts 580, 581, and 582 for prospecting, leasing, and operations related to critical minerals located on the OCS. If finalized, some of the regulatory amendments proposed with this action could allow the U.S. to more quickly access resources in seabed polymetallic nodules, other subsea geologic structures, and coastal deposits containing strategic minerals such as nickel, cobalt, copper, manganese, titanium, and rare earth elements. These resources are key to strengthening the U.S. economy, securing the U.S. energy future, and reducing dependence on foreign suppliers for critical minerals.

List of Subjects

30 CFR Part 580

Environmental assessment, Data, Geological and geophysical (G&G), Mineral resources, Outer continental shelf, Reporting and recordkeeping requirements, Research.

30 CFR Part 581

Administrative practice and procedure, Government contracts, Intergovernmental relations, Mineral resources, Mineral royalties, Outer continental shelf, Reporting and recordkeeping requirements, Surety bonds.

30 CFR Part 582

Administrative practice and procedure, Environmental protection, Government contracts, Intergovernmental relations, Mineral resources, Mineral royalties, Outer continental shelf, Penalties, Reporting and recordkeeping requirements, Surety bonds.

This action by the Assistant Secretary is taken pursuant to an existing delegation of authority.

Lanny E. Erdos,
Director, Office of Surface Mining, Reclamation, and Enforcement, Exercising Authority of the Assistant Secretary—Land and Mineral Management.

For the reasons stated in the preamble, the Department of the Interior proposes to amend 30 CFR chapter V as follows:

PART 580—PROSPECTING FOR MINERALS OTHER THAN OIL, GAS, AND SULPHUR ON THE OUTER CONTINENTAL SHELF

1. The authority citation for part 580 is amended to read as follows:

Authority: 43 U.S.C. 1331 et seq; 30 U.S.C. 1751; 31 U.S.C. 9701; 33 U.S.C. 2704, 2716.

Subpart C—Obligations Under This Part

2. Remove and reserve § 580.29.

§ 580.29 [Reserved]

3. Remove and reserve § 580.30.

§ 580.30 [Reserved]

4. Remove and reserve § 580.31.

§ 580.31 [Reserved]

5. Remove and reserve § 580.33.

§ 580.33 [Reserved]

6. Remove and reserve § 580.34

§ 580.34 [Reserved]

PART 581—LEASING OF MINERALS OTHER THAN OIL, GAS, AND SULPHUR IN THE OUTER CONTINENTAL SHELF

7. The authority citation for part 581 is amended to read as follows:

Authority: 43 U.S.C. 1331 et seq.; 43 U.S.C. 1334; 43 U.S.C. 1337 (k)(1); 30 U.S.C. 1751; 31 U.S.C. 9701; 33 U.S.C. 2704, 2716.

Subpart A—General

8. Remove and reserve § 581.5.

§ 581.5 [Reserved]

9. Remove and reserve § 581.9.

§ 581.9 [Reserved]

Subpart B—Leasing Procedures

10. Amend § 581.11 by revising paragraph (b) to read as follows:

§ 581.11 Unsolicited request for a lease sale.

* * * * *

(b) Within 28 days after receipt of a request submitted under paragraph (a) of this section, the Director shall either initiate steps leading to the offer of OCS minerals for lease and notify the applicant of the action taken or inform the applicant of the reasons for not initiating steps leading to the offer of OCS minerals for lease.

* * * * *

PART 582—OPERATIONS IN THE OUTER CONTINENTAL SHELF FOR MINERALS OTHER THAN OIL, GAS, AND SULPHUR

11. The authority citation for part 582 is amended to read as follows:

Authority: 43 U.S.C. 1331 et seq.; 43 U.S.C. 1334; 43 U.S.C. 1337(k)(1); 30 U.S.C. 1751; 31 U.S.C. 9701; 33 U.S.C. 2704, 2716.

Subpart A—General

12. Remove and reserve § 582.7.

§ 582.7 [Reserved]

Subpart E—Appeals

13. Remove and reserve § 582.50.

§ 582.50 [Reserved]

[FR Doc. 2026-03690 Filed 2-23-26; 8:45 am]

BILLING CODE 4340-98-P